Proclamation 8100 of January 11, 2007

Religious Freedom Day, 2007

By the President of the United States of America

A Proclamation

On Religious Freedom Day, we commemorate the passage of the 1786 Virginia Statute for Religious Freedom, authored by Thomas Jefferson, and we celebrate the First Amendment's protection of religious freedom.

Across the centuries, people have come to America seeking to worship the Almighty freely. Today, our citizens profess many different faiths, and we welcome every religion. Yet people in many countries live without the freedom to worship as they choose and some face persecution for their beliefs. My Administration is working with our friends and allies around the globe to advance common values and spread the blessings of liberty to every corner of the world. Freedom is a gift from the Almighty, written in the heart and soul of every man, woman, and child, and we must continue to promote the importance of religious freedom at home and abroad.

NOW, THEREFORE, I, GEORGE W. BUSH, President of the United States of America, by virtue of the authority vested in me by the Constitution and laws of the United States, do hereby proclaim January 16, 2007, as Religious Freedom Day. I call on all Americans to reflect on the great blessing of religious liberty, endeavor to preserve this freedom for future generations, and commemorate this day with appropriate events and activities in their schools, places of worship, neighborhoods, and homes.

IN WITNESS WHEREOF, I have hereunto set my hand this eleventh day of January, in the year of our Lord two thousand seven, and of the Independence of the United States of America the two hundred and thirty-first.

[FR Doc. 07-161

Filed 1-12-07; 11:33 am]

Billing code 3195-01-P